DEPARTMENT OF COMMERCE

Foreign-Trade Zones Board

[Docket 06-2009]

Foreign-Trade Zone 22—Chicago, IL; Expansion of Subzone and Scope of Manufacturing Authority Subzone 22F; Abbott Molecular, Inc. (Pharmaceutical/Molecular Diagnostic Products) Des Plaines and Elk Grove Village, IL

An application has been submitted to the Foreign-Trade Zones Board (the Board) by the Illinois International Port District, grantee of Foreign-Trade Zone 22, requesting authority to expand the subzone and scope of manufacturing authority under zone procedures within Subzone 22F at the pharmaceutical and molecular diagnostic facilities of Abbott Molecular, Inc. (Abbott), located in Des Plaines and Elk Grove Village, Illinois. The application was submitted pursuant to the provisions of the FTZ Act, as amended (19 U.S.C. 81a-81u), and the regulations of the Board (15 CFR Part 400). It was formally filed on February 17, 2009.

Subzone 22F was approved by the FTZ Board in 1992, at Abbott's pharmaceutical plants (4 sites, 791 acres with 108 buildings totaling 6,441,803 square feet, 30 percent of which is devoted to manufacturing), located in North Chicago and Lake County, Illinois. The facilities (9,400 employees) are used to produce and/or distribute a wide range of pharmaceutical products (Board Order No. 611, 57 FR 61045, 12/23/92). Expansion of manufacturing authority was approved on 8/30/99 (Board Order No. 1051, 64 FR 48578, 09/07/99).

Abbott is now requesting authority to expand the subzone to include two additional sites: Site 5: (17 acres, one building totaling 208,000 square feet, 455 employees) warehouse facility, located at 1300 East Touhy, Des Plaines, Illinois, and Site 6: (one acre, one building totaling 14,400 square feet, 2 employees), warehouse facility, located at 565 Busse Road, Elk Grove Village, Illinois. The facilities are used to warehouse and distribute molecular diagnostic equipment (HTSUS 8979.89.9897, duty rate 2.5%). The applicant is also requesting authority to expand its scope of manufacturing authority to include diagnostic equipment and components (HTSUS 8419.89, 8471.49, 8471.50, 8479.89, 8479.90, 9027.30, 9027.50, 9027.90, duty rates range from 2.5% to 4.2%) under zone procedures. Abbott is also requesting to include within its manufacturing scope a broad range of inputs and pharmaceutical final products that it may produce under FTZ procedures in the future. (New major activity in these inputs/products would require review by the FTZ Board.) The duty rates for these inputs and final products range from duty-free to 20 percent. The specific input and product categories are listed in the application, which is available in the “Reading Room” section of the Board's Web site (see below).

Zone procedures could exempt Abbott from customs duty payments on foreign materials used in production for export (some 60 percent of shipments). On domestic shipments, the company would be able to defer customs duty payments on foreign materials, and to choose the duty rate that applies to the finished products (duty-free to 4.2%) instead of the rates otherwise applicable to the foreign input materials (duty-free to 10.7%). Abbott also expects to realize additional savings through the use of weekly entry procedures. The application indicates that the savings from zone procedures would help improve the plant's international competitiveness.

In accordance with the Board's regulations, Kathleen Boyce of the FTZ Staff is designated examiner to investigate the application and report to the Board.

Public comment on the application is invited from interested parties. Submissions (original and 3 copies) shall be addressed to the Board's Executive Secretary at the address listed below. The closing period for their receipt is April 24, 2009. Rebuttal comments in response to material submitted during the foregoing period may be submitted during the subsequent 15-day period (to May 11, 2009).

A copy of the application will be available for public inspection at the Office of the Executive Secretary, Foreign-Trade Zones Board, Room 2111, U.S. Department of Commerce, 1401 Constitution Avenue, NW., Washington, DC 20230-0002, and in the “Reading Room” section of the Board's Web site, which is accessible via www.trade.gov/ftz. For further information, contact Kathleen Boyce at Kathleen_Boyce@ita.doc.gov or (202) 482-1346.

Dated: February 17, 2009.
Andrew McGilvray,
Executive Secretary.

[FR Doc. E9-3790 Filed 2-20-09; 8:45 am]

BILLING CODE 3510-DS-P